DEPARTMENT OF LABOR

Employment and Training Administration

[TA-W-65,301]

Richland Manufacturing, a Subsidiary of Eagle Wings Industries, Inc., Olney, IL; Notice of Termination of Investigation

In accordance with Section 221 of the Trade Act of 1974, as amended, an investigation was initiated on February 19, 2009 in response to a petition filed by an Illinois State One-Stop Operator on behalf of workers of Richland Manufacturing, a subsidiary of Eagle Wings Industries, Inc., Olney, Illinois.

The petitioner has requested that the petition be withdrawn. Consequently, the investigation has been terminated.

Signed in Washington, DC, this 26th day of March 2009.
Richard Church,
Certifying Officer, Division of Trade Adjustment Assistance.

[FR Doc. E9-8925 Filed 4-17-09; 8:45 am]

BILLING CODE 4510-FN-P